NUCLEAR REGULATORY COMMISSION

[Docket No. 50-395]

South Carolina Electric and Gas Company, Virgil C. Summer Nuclear Station; Notice of Availability of the Final Supplement 15 to the Generic Environmental Impact Statement Regarding License Renewal for the Virgil C. Summer Nuclear Station

Notice is hereby given that the U.S. Nuclear Regulatory Commission (the Commission) has published a final plant-specific supplement to the “Generic Environmental Impact Statement (GEIS)”, NUREG-1437, regarding the renewal of operating license NPF-12 for Virgil C. Summer Nuclear Station (V.C. Summer), for an additional 20 years of operation.V.C. Summer is owned by South Carolina Electric and Gas Company (SCE&G), and is located in Fairfield County, South Carolina, approximately 26 miles northwest of Columbia, South Carolina. Possible alternatives to the proposed action (license renewal) include no action and reasonable alternative methods of power generation.

It is stated in Section 9.3 of the report:

Based on (1) The analysis and findings in the GEIS (NRC 1996; 1999); (2) the Environmental Report submitted by SCE&G (SCE&G 2002b); (3) consultation with Federal, State, and local agencies; (4) the staff's own independent review; and (5) the staff's consideration of public comments, the staff recommends that the Commission determine that the adverse environmental impacts of license renewal for V.C. Summer are not so great that preserving the option of license renewal for energy planning decisionmakers would be unreasonable.

The final Supplement 15 to the GEIS is available for public inspection in the NRC Public Document Room (PDR) located at One White Flint North, 11555 Rockville Pike (first floor), Rockville, Maryland 20852, or from the Publicly Available Records (PARS) component of NRC's Agencywide Documents Access and Management System (ADAMS). ADAMS is accessible from the NRC Web site at http://www.nrc.gov/reading-rm.html (the Public Electronic Reading Room). Persons who do not have access to ADAMS, or who encounter problems in accessing the documents located in ADAMS, should contact the PDR reference staff at 1-800-397-4209, 301-415-4737, or by e-mail to pdr@nrc.gov. The final supplement to the GEIS is also available for public inspection at the Thomas Cooper Library, 1322 Greene Street, Columbia, South Carolina 29208, and at the Fairfield County Library, 300 Washington Street, Winnsboro, South Carolina 29180.

FOR FURTHER INFORMATION CONTACT: Mr. William Dam, License Renewal and Environmental Impacts Program, Division of Regulatory Improvement Programs, U.S. Nuclear Regulatory Commission, Mail Stop O-11 F1, Washington, DC 20555. Mr. Dam may be contacted at (301) 415-4014 or WLD@nrc.gov.

Dated at Rockville, Maryland, this 23rd day of February, 2004.
For the Nuclear Regulatory Commission.
Pao Tsin Kuo,
Program Director, License Renewal and Environmental Impacts Program, Division of Regulatory Improvement Programs, Office of Nuclear Reactor Regulation.

[FR Doc. 04-4574 Filed 3-1-04; 8:45 am]

BILLING CODE 7590-01-P